DEPARTMENT OF TRANSPORTATION

Maritime Administration

[Docket No. MARAD-2019-0093]

Deepwater Port License Application: Texas GulfLink LLC; Extension of Scoping Period

AGENCY: Maritime Administration, Department of Transportation.

ACTION: Notice of extension of the public scoping comment period.

SUMMARY: By Federal Register notice of Wednesday, July 3, 2019, titled Deepwater Port License Application: Texas Gulflink LLC, the U.S. Coast Guard (USCG), in coordination with the Maritime Administration (MARAD), announced the intent to prepare an environmental impact statement (EIS) as part of the environmental review of the Texas GulfLink LLC (Texas GulfLink) deepwater port license application. Publication of that notice began a 30-day scoping process, announced the date and location of a public scoping meeting as well as requested public participation to assist in the identification and determination of the environmental issues to be addressed in the EIS.

During the Texas GulfLink public scoping meeting held in Lake Jackson, Texas on Wednesday, July 17, 2019, USCG and MARAD advised that the public scoping period would be extended. This extension is due to delays in getting the application properly posted on the docket. This Federal Register Notice announces the date of the extended scoping period.

DATES: Comments or related material on the Texas GulfLink deepwater port license application must be received by August 30, 2019.

ADDRESSES: The public docket for the Texas GulfLink deepwater port license application is maintained by the U.S. Department of Transportation, Docket Management Facility, West Building, Ground Floor, Room W12-140, 1200 New Jersey Avenue SE, Washington, DC 20590. The license application is available for viewing at the Regulations.gov website: http://www.regulations.gov under docket number MARAD-2019-0093.

We encourage you to submit comments electronically through the Federal eRulemaking Portal at http://www.regulations.gov. If you submit your comments electronically, it is not necessary to also submit a hard copy. If you cannot submit material using http://www.regulations.gov, please contact either Mr. Patrick Clark, USCG or Yvette Fields, MARAD, as listed in the following FOR FURTHER INFORMATION CONTACT section of this document, which also provides alternate instructions for submitting written comments. Additionally, if you go to the online docket and sign up for email alerts, you will be notified when comments are posted. Anonymous comments will be accepted. All comments received will be posted without change to http://www.regulations.gov and will include any personal information you have provided. The Federal Docket Management Facility's telephone number is 202-366-9317 or 202-366-9826, the fax number is 202-493-2251.

FOR FURTHER INFORMATION CONTACT: Mr. Patrick Clark, U.S. Coast Guard, telephone: 202-372-1358, email: Patrick.W.Clark@uscg.mil or Ms. Yvette Fields, Maritime Administration, telephone: 202-366-0926, email: Yvette.Fields@dot.gov. For questions regarding viewing the Docket, call Docket Operations, telephone: 202-366-9317 or 202-366-9826.

SUPPLEMENTARY INFORMATION:

Request for Comments

We request public comment on this proposal. The comments may relate to, but are not limited to, the environmental impact of the proposed action. All comments will be accepted. You may submit comments directly to the Federal Docket Management Facility during the public comment period (see Dates). We will consider all comments and material received during the extended scoping period.

The license application, comments and associated documentation, as well as the draft and final EISs (when published), are available for viewing at the Federal Docket Management System (FDMS) website: http://www.regulations.gov under docket number MARAD-2019-0093.

Public comment submissions should include:

• Docket number MARAD-2019-0093.

• Your name and address.

Submit comments or material using only one of the following methods:

• Electronically (preferred for processing) to the Federal Docket Management System (FDMS) website: http://www.regulations.gov under docket number MARAD-2019-0093.

• By mail to the Federal Docket Management Facility (MARAD-2019-0093), U.S. Department of Transportation, West Building, Ground Floor, Room W12-140, 1200 New Jersey Avenue SE, Washington, DC 20590-0001.

• By personal delivery to the room and address listed above between 9:00 a.m. and 5:00 p.m., Monday through Friday, except Federal holidays.

• By fax to the Federal Docket Management Facility at 202-493-2251.

Faxed, mailed or hand delivered submissions must be unbound, no larger than 8½ by 11 inches and suitable for copying and electronic scanning. The format of electronic submissions should also be no larger than 8½ by 11 inches. If you mail your submission and want to know when it reaches the Federal Docket Management Facility, please include a stamped, self-addressed postcard or envelope.

Regardless of the method used for submitting comments, all submissions will be posted, without change, to the FDMS website (http://www.regulations.gov) and will include any personal information you provide. Therefore, submitting this information to the docket makes it public. You may wish to read the Privacy and Use Notice that is available on the FDMS website and the Department of Transportation Privacy Act Notice that appeared in the Federal Register on April 11, 2000 (65 FR 19477), see Privacy Act. You may view docket submissions at the Federal Docket Management Facility or electronically on the FDMS website.

Privacy Act

The electronic form of all comments received into the FDMS can be searched by the name of the individual submitting the comment (or signing the comment, if submitted on behalf of an association, business, labor union, etc.). The Department of Transportation Privacy Act Statement can be viewed in the Federal Register published on April 11, 2000 (Volume 65, Number 70, pages 19477-78) or by visiting http://www.regulations.gov.

Authority: 33 U.S.C. 1501, et seq., 49 CFR 1.93(h).

Dated: August 6, 2019.
By Order of the Maritime Administrator.
T. Mitchell Hudson, Jr.,
Secretary, Maritime Administration.

[FR Doc. 2019-17131 Filed 8-13-19; 8:45 am]

BILLING CODE 4910-81-P